DEPARTMENT OF THE INTERIOR

Bureau of Land Management

[NM-952-05-1420-BJ]

Notice of Filing of Plats of Survey; New Mexico

AGENCY: Bureau of Land Management, Interior.

ACTION: Notice.

SUMMARY: The plats of survey described below are scheduled to be officially filed in the New Mexico State Office, Bureau of Land Management, Santa Fe, New Mexico, (30) thirty calendar days from the date of this publication.

SUPPLEMENTARY INFORMATION:

New Mexico Principal Meridian, New Mexico

The plat representing the dependent resurvey and survey in Township 2 North, Range 6 West, and subdivision of sections, accepted September 30, 2004, for Group 1005 New Mexico.

The Supplemental Plat was prepared to renumber the lots in sections 6, 7&18 for Township 21 South, Range 1 West and Range 1 East, accepted August 17, 2004, New Mexico.

The Supplemental Plat showing new lots 10 and 11, created from former lot of 5 section 18, Township 23 North, Range 6 West, accepted September 7, 2004, New Mexico.

The plat representing the dependent resurvey and survey of subdivision sections for Township 8 North, Range 7 West, accepted September 9, 2004 for Group 1010 New Mexico.

The plat, in 2 sheets, representing the dependent resurvey and survey of a portion of the Second Standard Parallel North through Range 6 West (north boundary, for sections 2, 4 and 6 Township 8 North, Range 6 West, accepted September 9, 2004 for Group 1010 New Mexico.

The plat representing the dependent resurvey of a portion of the north boundary of the Santo Domingo de Cundiyo Grant, Township 20 North, Range 10 East, accepted on September 10, 2004 for Group 1006 New Mexico.

The plat representing the dependent resurvey of a portion of the south boundary of the Santa Cruz Grant and a portion of the subdivisional lines, Township 20 North, Range 9 East, accepted on September 10, 2004 for Group 1021 New Mexico.

The plat representing the dependent resurvey of a portion of the boundary between the Sebastian Martin Grant and the Black Mesa Grant, accepted September 21, 2004 for Group 1015 New Mexico.

Indian Meridian, Oklahoma

The plat, in 4 sheets, representing the dependent resurvey and survey of a portion of the north boundary of the Cheyenne and Arapaho Reservation, sections 26, 35 and 36 of Township 20 North, Range 10 West, accepted September 7, 2004, for Group 52 Oklahoma.

The plat, in 2 sheets, representing the dependent resurvey and survey of the subdivisional lines, and the adjusted record meanders of the 1873 right bank of the Cimarron River, section 2 of Township 19 North, Range 10 West, accepted September 7, 2004, for Group 52 Oklahoma.

The plat, in 2 sheets, representing the dependent resurvey and survey of portions of the west and north boundaries, a portion of the subdivisional lines, and the adjusted record meanders of the 1873 right and left banks of the Cimarron River for sections 6 and 7, for Township 19 North, Range 9 West, accepted September 7, 2004, for Group 52 Oklahoma.

The plat representing the dependent resurvey of the portion of the North boundary, a portion of the subdivisional lines, and a portion of the subdivision of section lines, and the subdivision of certain sections. Township 29 North, Range 23 East, accepted September 30, 2004 for Group 94 Oklahoma.

The plat representing the dependent resurvey of the Seventh Standard Parallel North, the east boundary, a portion of the north boundary, and portions of the subdivisional lines and the subdivision of certain sections, Township 29 North, Range 22 East, accepted September 30, 2004 for Group 94 Oklahoma.

If a protest against a survey, as shown on any of the above plats is received prior to the date of official filing, the filing will be stayed pending consideration of the protest. A plat will not be officially filed until the day after all protests have been dismissed and become final or appeals from the dismissal affirmed.

A person or party who wishes to protest against any of these surveys must file a written protest with the New Mexico State Director, Bureau of Land Management, stating that they wish to protest.

A statement of reasons for a protest may be filed with the notice of protest to the State Director, or the statement of reasons must be filed with the State Director within thirty (30) days after the protest is filed.

FOR FURTHER INFORMATION CONTACT: These plats will be available for inspection in the New Mexico State Office, Bureau of Land Management, PO Box 27115, Santa Fe, New Mexico, 87502-0115. Copies may be obtained from this office upon payment of $1.10 per sheet.

Dated: October 27, 2004.
Robert Casias,
Chief Cadastral Surveyor for New Mexico.

[FR Doc. 04-25724 Filed 11-18-04; 8:45 am]

BILLING CODE 4310-FB-P